FEDERAL COMMUNICATIONS COMMISSION

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communication Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before September 15, 2014. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the “SUPPLEMENTARY INFORMATION” section below.

FOR FURTHER INFORMATION CONTACT: For additional information or copies of the information collection, contact Cathy Williams at (202) 418-2918.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-XXXX.

Title: Structure and Practices of the Video Relay Service Program; Telecommunications Relay Services and Speech-to-Speech Services for Individuals with Hearing and Speech Disabilities, CG Docket No. 10-51 and 03-123; FCC 13-82.

Form Number: N/A.

Type of Review: New collection.

Respondents: Business or other for-profit entities; Individuals or households; Not-for-profit institution; Federal Government.

Number of Respondents and Responses: 39 respondents; 9,876,603 responses.

Estimated Time per Response: .005 hours to 80 hours.

Frequency of Response: Annual, on-occasion, on-going, one-time, and quarterly reporting requirements; Recordkeeping requirement, Third party disclosure requirement.

Obligation to Respond: Required to obtain or retain benefits. The statutory authority for this information collection is Sec. 225 of the Communications Act, 47 U.S.C. 225. The law was enacted on July 26, 1990, as Title IV of the Americans with Disabilities Act of 1990 (ADA), Pub. L. 101-336, 104 Stat. 327, 366-69.

Total Annual Burden: 486,417 hours.

Total Annual Cost: None.

Nature and Extent of Confidentiality: This information collection affects individuals or households. However, access to personally identifiable information (PII) is limited to the third party vendor and the Commission only pursuant to the requirements of the Privacy Act of 1974, as amended.

Privacy Impact Assessment: This information collection affects individuals or households. The Commission is not collecting personally identifiable information (PII) for the purpose of populating in the database, the database is made available and accessible by the Commission. Although TRS users are required to provide their personal identifiable information to register for using TRS service, such information is available only to a third-party independent vendor selected by the Commission's Managing Director and the Commission. The third party vendor and the Commission are required to maintain all registered information, including personal information, in the registration database confidential in accordance to the directives under contract between the third party vendor and the Commission's Managing Director.

The FCC is completing the requirements for a new system of records notice (SORN), FCC/CGB-4, “Internet-based Telecommunications Relay Service-User Registration Database (ITRS-URD),” which will cover the personally identifiable information (PII) that may be collected, maintained, used, and stored, and disposed of when obsolete, and which are part of the information associated with these information collection requirements, i.e., the new SORN will make this information collection comply with all requirements of the Privacy Act of 1974, as amended.

Needs and Uses: On June 10, 2013, the Commission released the VRS Reform Order, FCC 13-82, published at 78 FR 40582, July 5, 2013, adopting further measures to improve the structure, efficiency, and quality of the VRS program, reducing the noted inefficiencies in the program, as well as reducing the risk of waste, fraud, and abuse, and ensuring that the program makes full use of advances in commercially-available technology. In the Order, the Commission takes the following actions by: (1) Setting up an arrangement with the National Science Foundation (NSF) to enable research designed to further the Commission's multiple goals of ensuring that TRS is functionally equivalent to voice telephone services and improving the efficiency and availability of TRS; (2) establishing a pilot iTRS National Outreach Program (iTRS-NOP) by selecting one or more independent iTRS Outreach Coordinators to conduct and coordinate IP Relay and VRS outreach nationwide under the Commission's (or the TRS Fund administrator's) supervision; (3) promoting the development and adoption of voluntary, consensus interoperability and portability standards, and facilitate compliance with those standards by directing the Managing Director to contract for the development and deployment of a VRS access technology reference platform; (4) establishing a central TRS user registration database (TRS-URD) which incorporates a centralized eligibility verification requirement to ensure accurate registration and verification of users, to achieve more effective fraud and abuse prevention; and (5) selecting a neutral party to build, operate, and maintain a neutral video communication service platform, which will allow eligible relay interpretation service providers to compete without having to build their own video communication service platforms.

Federal Communications Commission.
Marlene H. Dortch,
Secretary, Office of the Secretary, Office of the Managing Director.

[FR Doc. 2014-19290 Filed 8-14-14; 8:45 am]

BILLING CODE 6712-01-P